FEDERAL COMMUNICATIONS COMMISSION

Public Information Collections Approved by Office of Management and Budget

January 11, 2002.

The Federal Communications Commission (FCC) has received Office of Management and Budget (OMB) approval for the following public information collections pursuant to the Paperwork Reduction Act of 1995, Public Law 104-13. An agency may not conduct or sponsor and a person is not required to respond to a collection of information unless it displays a currently valid control number. For further information contact Shoko B. Hair, Federal Communications Commission, (202) 418-1379.

Federal Communications Commission

OMB Control No.: 3060-0665.

Expiration Date: 12/31/2004.

Title: Section 64.707—Public Dissemination of Information by Providers of Operator Services.

Form No.: N/A .

Respondents: Business or other for-profit.

Estimated Annual Burden: 436 respondents; 4 hour per response (avg.); 1744 total annual burden hours.

Estimated Annual Reporting and Recordkeeping Cost Burden: $0.

Frequency of Response: Third Party Disclosure.

Description: 47 CFR 64.707 requires that operator services providers (OSPs), regularly publish and make available at no cost upon request from consumers written materials that describe any changes in operator services and choices available to consumers. 47 U.S.C. 226(d)(4)(B) required adoption of this rule. This requirement was a response to a widespread failure of operator service providers to provide information necessary for informed consumer choice in the marketplace. OSPs have provided this information primarily to consumers in the form of a written report that will be regularly updated at the OSP's discretion. Consumers will use this information to increase their knowledge of the choices available to them in the operator service marketplace. Obligation to respond: Mandatory

OMB Control No.: 3060-0853.

Expiration Date: 01/31/2005.

Title: Receipt of Service Confirmation Form, Adjustment of Funding Commitment, and Certification by Administrative Authority to Billed Entity of Compliance with Children's Internet Protection.

Form No.: FCC Forms 500, 486 and 479.

Respondents: Business or other for-profit; Not-for-profit institutions.

Estimated Annual Burden: 40,000 respondents; 1.87 hour per response (avg.); 75,000 total annual burden hours.

Estimated Annual Reporting and Recordkeeping Cost Burden: $0.

Frequency of Response: On occasion; Recordkeeping; Third Party Disclosure.

Description: Section 1721 and related sections of the Children's Internet Protection Act (CIPA) provide that in order to be eligible under section 254 of the Communications Act of 1934, as amended (the Act), to receive discounted Internet access, Internet services, and internal connection services, schools and libraries that have computers with Internet access must have in place certain Internet safety policies. FCC Forms 486, 479 and 500 are used to implement the requirements of CIPA and 47 U.S.C. section 254.

(a) FCC Form 486, Receipt of Service Confirmation Form. Schools and libraries and consortia of such entities, apply to the Schools and Libraries Division (SLD) of the Universal Service Administrative Company (USAC) for discounts on telecommunications services, Internet access and internal connections, through the use of FCC Forms 470 and 471. Both Forms 470 and 471 contain certifications that guarantee that eligible entities are ordering services for eligible purposes. The applicant must also certify that it has developed a technology plan that has been approved by an authorized entity. The technology plan should demonstrate that the applicant will be able to deploy any necessary hardware, software, and wiring, and to undertake any necessary teacher training required to use effectively the services ordered pursuant to the section 254(h) discount. 47 CFR 54.504(b)(2). FCC Form 486, which is filed after the applicant has received a Funding Commitment Decision Letter, serves several purposes: it authorizes the payment of invoices from service providers for the services indicated on the applicant's Form 471 and also indicates the approval of technology plans as required and it indicates the state of compliance with CIPA. All schools and libraries receiving Internet access and internal connection services supported by the schools and libraries support mechanism must certify that they are enforcing a policy of Internet safety and enforcing the operation of a technology prevention measure pursuant to CIPA. The purpose of this information is to ensure that schools and libraries that are eligible to receive discounted Internet access, Internet services, and internal connections have in place certain Internet safety policies. (Number of respondents: 30,000; hours per response: 1.5 hours; total annual burden: 45,000 hours).

(b) FCC Form 479, Certification by Administrative Authority to Billed Entity of Compliance with Children's Internet Protection Act. All members of a consortium must submit signed certifications to the Billed Entity of each consortium in language consistent with the FCC Form 486. FCC Form 479 provides notification to a Billed Entity by of the status of the Administrative Authority's compliance for the purposes of CIPA. The billed entity will then certify on its FCC Form 486 that it has collected duly completed and signed Forms 479 from administrative authorities that the billed entity represents. (Number of respondents: 10,000; hours per response: 1.5 hours; total annual burden: 15,000 hours).

(c) FCC Form 500, Adjustment to Funding Commitment and Modification to Receipt of Service Confirmation Form. Schools and libraries and consortia of such entities which have received funding commitments from the Schools and Libraries Division (SLD) of the Universal Service Administrative Company (USAC) for discounts on telecommunications services, Internet access and internal connections, must have a mechanism by which they can adjust that funding commitment or provide updated information to SLD. The Form 500, which is filed after the applicant has received a Funding Commitment Decision Letter serves the following four purposes: to adjust the Funding Year Service Start Date reported on a previously filed Form 486 for the then-current Funding Year; to adjust the Contract Expiration Date listed on a Form 471 application for the then-current Funding Year; to cancel irrevocably and totally a Funding Request Number (FRN); and/or to reduce irrevocably the amount of a Funding Request Number (FRN). (Number of respondents: 10,000; hours per response: 1.5 hours; total annual burden: 15,000 hours). All schools and libraries receiving Internet access and internal connection services supported by the schools and libraries support mechanism must certify that they are enforcing a policy of Internet safety and enforcing the operation of a technology prevention measure. The purpose of this information is to ensure that schools and libraries that are eligible to receive discounted Internet access, Internet services, and internal connections have in place certain Internet safety policies. The schools and libraries will certify using FCC Form 486. Respondents who received a Funding Commitment Decision Letter indicating services eligible for universal service discounts must file FCC Form 486 in order to start the payment process. FCC Form 486 informs the Administrator when the Billed Entity and/or the eligible entities that it represents is receiving, is scheduled to receive, or has received service in the relevant Funding Year from the named service providers. The FCC Form 486 is filed: to authorize the payment of invoices from the service provider; to indicate approval of technology plans; and to indicate the state of compliance with CIPA. The information is to ensure that services are actually being provided and that a billing relationship exists between the service provider and the applicant. Failure to file a Form 486 means that no payments may be made to a service provider (or for an applicant reimbursement, which is passed through the service provider) on the particular Funding Request Number. In addition, all members of a consortium must submit signed certifications to the Billed Entity (using a FCC Form 479, Certification by Administrative Authority to Billed Entity of Compliance with Children's Internet Protection Act) of each consortium, in language consistent with that on the FCC Form 486. Only some applicants will avail themselves of the FCC Form 500. It is available for applicants who wish to keep their information current or who wish to return funds to the Universal Service Fund. The forms and instructions may be obtained at the SLD web site, http://www.sl.universalservice.org/, or by contacting the SLD Client Service Bureau at 888-203-8100. Obligation to respond: Mandatory.

Public reporting burden for the collections of information are as noted above. Send comments regarding the burden estimates or any other aspect of the collections of information, including suggestions for reducing the burden to Performance Evaluation and Records Management, Washington, DC 20554.

Federal Communications Commission.
Magalie Roman Salas,
Secretary.

[FR Doc. 02-1336 Filed 1-17-02; 8:45 am]

BILLING CODE 6712-01-P